DEPARTMENT OF COMMERCE

National Oceanic and Atmospheric Administration

50 CFR Part 300

[Docket No. 991207319-9319-01; I.D. 072700A]

International Fisheries; Pacific Tuna Fisheries; Closure of the Purse Seine Fishery for Bigeye Tuna

AGENCY: National Marine Fisheries Service (NMFS), National Oceanic and Atmospheric Administration (NOAA), Commerce.

ACTION: Fishing restrictions; request for comments.

SUMMARY: NMFS announces a three-month closure of the purse seine fishery on floating objects in the eastern Pacific Ocean, consistent with recommendations by the Inter-American Tropical Tuna Commission (IATTC) that have been approved by the Department of State under the terms of the Tuna Conventions Act. If a closure earlier than the scheduled closure is required, a subsequent document will be published in the Federal Register indicating the date on which the fishery associated with floating objects will close.

DATES: Effective from 12 midnight on September 14, 2000, through 12 midnight December 15, 2000. Comments will be accepted through September 14, 2000.

ADDRESSES: Submit comments to Rebecca Lent, Regional Administrator, Southwest Region (Regional Administrator), NMFS, 501 W. Ocean Boulevard, Suite 4200, Long Beach, CA 90802-4213.

FOR FURTHER INFORMATION CONTACT: Mr. Svein Fougner at 562-980- 4040.

SUPPLEMENTARY INFORMATION: This action is taken under the authority of the regulations at 50 CFR part 300, subpart C, which implement the Tuna Conventions Act (16 U.S.C. 955). The U.S. is a member of the IATTC, which was established under the Convention for the Establishment of an Inter-American Tropical Tuna Commission signed in 1949. The IATTC was established to provide an international arrangement to ensure the effective international conservation and management of tunas and tuna-like fishes in the Convention Area. The IATTC has maintained a scientific research and fishery monitoring program for many years, and annually assesses the status of stocks of tuna and the fisheries to determine appropriate harvest limits or other measures to prevent overexploitation of the stocks and promote viable fisheries.

At its meeting in June 2000, the IATTC adopted a resolution to close the purse seine fishery associated with floating objects (including fish aggregating devices, or FADS) for the period September 15 through December 15, 2000. The area covered by this recommendation is all waters of the eastern Pacific Ocean (EPO) between 40° N. lat. and 40° S. lat. out to 150° W. long. The resolution is intended to ensure overall conservation of the bigeye tuna stock and to ensure that the catch of juvenile bigeye tuna would not adversely affect the stock.

This action replaced the recommendation of IATTC in October 1999 that set a provisional 2000 quota of 40,000 metric tons for bigeye tuna taken by purse seine vessels in the EPO. That quota would have been implemented by prohibiting purse seine sets on all types of floating objects in the Convention Area when the quota was reached.

The Department of State has approved this new recommendation. The reason for choosing to close the fishery on floating objects, is that sets on floating objects are the major strategy the purse seine fishery uses to catch bigeye tuna. Sets on floating objects are generally more likely to catch juvenile bigeye, with the result that future yields from the stock could be jeopardized if juvenile bigeye mortality is excessive. To date in 2000, however, catches of juvenile bigeye tuna in the purse seine fishery have been minimal. The seasonal closure is believed to be sufficient to achieve conservation objectives.

For the reasons stated here and in accordance with the regulations at 64 FR 44428, August 16, 1999, NMFS herein announces that:

No U.S. purse seine fishing vessel may deploy a purse seine net around floating objects in the Convention Area between midnight September 14, 2000, and midnight December 15, 2000.

Classification

This action is authorized by the regulations implementing the Tuna Conventions Act. The determination to take this action is based on the most recent data available. The aggregate data upon which the determination is based are available for public inspection at the Office of the Regional Administrator (see ADDRESSES) during business hours.

This action is taken under the authority of 50 CFR part 300, subpart C and is exempt from review under Executive Order 12866. Because prior notice and opportunity for public comment are not required for this rule by 5 U.S.C. 553, or any other law, the analytical requirements of the Regulatory Flexibility Act, 5 U.S.C., 601 et seq., are not applicable.

The Assistant Administrator for Fisheries, NOAA (AA) finds for good cause under 5 U.S.C. 553(b)(B) that providing prior notice and an opportunity for public comment on this action is unnecessary. The rule authorizing this action provides for quotas agreed to by the IATTC and approved by the Department of State to be effective upon direct notification of the U.S. tuna fishing industry. Providing prior notice and an opportunity for public comment would serve no useful purpose. The AA finds for good cause under 5 U.S.C. 553(d)(3) that a 30-day delay in effectiveness for this 2000 quota would be contrary to the public interest. Such a delay could prevent the quota from being in place before it is exceeded and the fisheries closed.

Authority: 16 U.S.C. 951-961 and 971 et seq.

Dated: August 17, 2000.
Bruce C. Morehead,
Acting Director, Office of Sustainable Fisheries, National Marine Fisheries Service.

[FR Doc. 00-22204 Filed 8-29-00; 8:45 am]

Billing Code: 3510-22-S